DEPARTMENT OF LABOR

Employment and Training Administration

[TA-W-55,188]

Dura Automotive Systems, Inc., Cables Division, Brookfield, MO; Notice of Termination of Investigation

Pursuant to section 221 of the Trade Act of 1974, as amended, an investigation was initiated on July 1, 2004, in response to a worker petition filed by a company official on behalf of workers at Dura Automotive Systems, Inc., Cables Division, Brookfield, Missouri.

The petitioner has requested that the petition be withdrawn. Consequently, further investigation would serve no purpose and the investigation has been terminated.

Signed at Washington, DC, this 21st day of July, 2004.
Elliott S. Kushner,
Certifying Officer, Division of Trade Adjustment Assistance.

[FR Doc. 04-17604 Filed 8-2-04; 8:45 am]

BILLING CODE 4510-30-P